DEPARTMENT OF LABOR

Employment and Training Administration

TA-W-73,609

Faurecia Emissions Control Technologies Including On-Site Leased Workers From Adecco Employment Servcies and Emcon Technologies, Troy, MI; Amended Certification Regarding Eligibility To Apply for Worker Adjustment Assistance

In accordance with Section 223 of the Trade Act of 1974, as amended (“Act”), 19 U.S.C. 2273, the Department of Labor issued a Certification of Eligibility to Apply for Worker Adjustment Assistance on June 10, 2010, applicable to workers of Faurecia Emissions Control Technologies, Troy, Michigan, including on-site leased workers from Adecco Employment Services, Troy, Michigan. The Department's notice of determination was published in the Federal Register on July 1, 2010 (75 FR 38137).

At the request of the State agency, the Department reviewed the certification for workers of the subject firm. The workers were engaged in activities related to the supply of corporate shared services such as information technology, financial, human resources, and purchasing support.

The company reports that workers leased from Emcon Technologies were employed on-site at the Troy, Michigan location of Faurecia Emissions Control Technologies. The Department has determined that these workers were sufficiently under the control of the subject firm to be considered leased workers.

Based on these findings, the Department is amending this certification to include workers leased from Emcon Technologies working on-site at the Troy, Michigan location of Faurecia Emissions Control Technologies.

The amended notice applicable to TA-W-73,609 is hereby issued as follows:

All workers of Faurecia Emissions Control Technologies, including on-site leased workers from Adecco Employment Services and Emcon Technologies, Troy, Michigan, who became totally or partially separated from employment on or after February 22, 2009, through June 10, 2012, and all workers in the group threatened with total or partial separation from employment on the date of certification through two years from the date of certification, are eligible to apply for adjustment assistance under Chapter 2 of Title II of the Trade Act of 1974, as amended.

Signed in Washington, DC, this 17th day of December 2010.
Michael W. Jaffe,
Certifying Officer, Office of Trade Adjustment Assistance.

[FR Doc. 2010-33052 Filed 12-30-10; 8:45 am]

BILLING CODE 4510-FN-P